FEDERAL COMMUNICATIONS COMMISSION

[OMB 3060-1166, 3060-xxxx and 3060-xxxx]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before August 21, 2017. If you anticipate that you will be submitting comments, but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA, 44 U.S.C. 3501-3520, the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1166.

Title: Section 1.21001, Participation in Competitive Bidding for Support; Section 1.21002, Prohibition of Certain Communications During the Competitive Bidding Process.

Form Number: N/A.

Type of Review: Revision of a currently approved collection.

Respondents: Business or other for-profit entities, not-for-profit institutions, and state, local or tribal governments.

Number of Respondents and Responses: 750 respondents and 750 responses.

Estimated Time per Response: 1.5 hours.

Frequency of Response: On occasion reporting requirement.

Obligation To Respond: Required to obtain or retain benefits. Statutory authority for this information collection 47 U.S.C. 154, 254 and 303(r).

Total Annual Burden: 1,125 hours.

Total Annual Cost: No cost.

Nature and Extent of Confidentiality: There is no need for confidentiality. Information collected in each application for universal service support will be made available for public inspection, and the Commission is not requesting that respondents submit confidential information to the Commission as part of the pre-auction application process. Respondents seeking to have information collected on an application for universal service support withheld from public inspection may request confidential treatment of such information pursuant to section 0.459 of the Commission's rules, 47 CFR Section 0.459.

Privacy Act Impact Assessment: No impact(s).

Needs and Uses: The Commission will use the information collected to determine whether applicants are eligible to participate in auctions for Universal Service Fund support. On November 18, 2011, the Commission released an order comprehensively reforming and modernizing the universal service and intercarrier compensation systems to ensure that robust, affordable voice and broadband service, both fixed and mobile, are available to Americans throughout the nation. Connect America Fund et al., Order and Further Notice of Proposed Rulemaking, 26 FCC Rcd 17663 (2011) (USF/ICC Transformation Order). In adopting the USF/ICC Transformation Order, the Commission created the Connect America Fund (CAF) to help make broadband available to homes, businesses, and community anchor institutions in areas that do not, or would not otherwise, have broadband. In addition, the Commission created the Connect America Mobility Fund (MF) to ensure the availability of mobile broadband networks in areas where a private-sector business case is lacking and a separate and complementary one-time Tribal Mobility Fund Phase I to accelerate mobile voice and broadband availability in Tribal areas. Finally, the Commission created the Remote Areas Fund (RAF) to ensure that Americans living in the most remote areas in the nation, where the cost of deploying traditional terrestrial broadband networks is extremely high, can obtain affordable access through alternative technology platforms, including satellite and unlicensed wireless services.

To implement these reforms and conduct competitive bidding for CAF, MF, and RAF support, the Commission adopted new rules containing information collection requirements that would be used to determine whether an applicant is generally qualified to bid for universal service support. The Commission also adopted rules containing information collection requirements that would be used to determine whether an applicant is specifically qualified to bid for Phase I of the Mobility Fund and Tribal Mobility Fund.

Because support under Phase I of the Mobility Fund and Tribal Mobility Fund has been awarded, the Commission is revising the currently approved information collection to remove the information collections requirements that apply specifically to applicants seeking to participate in competitive bidding for Mobility Fund Phase I and Tribal Mobility Fund Phase I support and to retain only those information collections requirements that apply generally to applicants seeking to participate in competitive bidding for universal service support. The Commission also requests that the title of this information collection be changed to “Section 1.21001, Participation in Competitive Bidding for Support; Section 1.21002, Prohibition of Certain Communications During the Competitive Bidding Process” to reflect the revised information collection.

OMB Control Number: 3060-XXXX.

Title: Application to Participate in an Auction for Mobility Fund Phase II Support, FCC Form 184.

Form Number: FCC Form 184.

Type of Review: New collection.

Respondents: Business or other for-profit entities, not-for-profit institutions, and state, local or tribal governments.

Number of Respondents and Responses: 250 respondents and 250 responses.

Estimated Time per Response: 1.5 hours.

Frequency of Response: On occasion reporting requirement.

Obligation To Respond: Required to obtain or retain benefits. Statutory authority for this information collection 47 U.S.C. 154, 254 and 303(r).

Total Annual Burden: 375 hours.

Total Annual Cost: No cost.

Nature and Extent of Confidentiality: There is no need for confidentiality. Information collected on FCC Form 184 is made available for public inspection, and the Commission is not requesting that respondents submit confidential information on FCC Form 184. Respondents seeking to have information collected on FCC Form 184 withheld from public inspection may request confidential treatment of such information pursuant to section 0.459 of the Commission's rules, 47 CFR Section 0.459.

Privacy Act Impact Assessment: No impact(s).

Needs and Uses: The Commission will use the information collected to determine whether applicants are eligible to participate in the Mobility Fund Phase II auction. On November 18, 2011, the Commission released an order comprehensively reforming and modernizing the universal service and intercarrier compensation systems to ensure that robust, affordable voice and broadband service, both fixed and mobile, are available to Americans throughout the nation. Connect America Fund et al., Order and Further Notice of Proposed Rulemaking, 26 FCC Rcd 17663 (2011) (USF/ICC Transformation Order). In adopting the USF/ICC Transformation Order, the Commission created the Connect America Mobility Fund (MF) to ensure the availability of mobile broadband networks in areas where a private-sector business case is lacking a separate and complementary one-time Tribal Mobility Fund accelerate mobile voice and broadband availability in Tribal areas.

On February 23, 2017, the Commission adopted the framework for moving forward with Phase II of the Mobility Fund and Tribal Mobility Fund, which will allocate up to $4.53 billion over the next decade to advance the deployment of 4G LTE service to areas that are so costly that the private sector has not yet deployed there and to preserve such service where it might not otherwise exist. Connect America Fund; Universal Service Reform—Mobility Fund, WC Docket No. 10-90 and WT Docket No. 10-208, Report and Order, FCC 17-11. To implement the reform and conduct the MF-II auction, the Commission adopted new rules for the MF-II auction which include new information collections. The Commission will utilize a reverse auction to distribute high-cost support for mobile services to areas that lack unsubsidized 4G LTE service, while completing the phase-down of legacy support going to mobile competitive eligible telecommunications carriers. The Commission will use a two-stage application process for the MF-II auction similar to that used in spectrum license auctions. Based on the Commission's experience with auctions and consistent with the record, this two-stage collection of information balances the need to collect information essential to conduct a successful auction with administrative efficiency.

Under this information collection, the Commission will collect information that will be used to determine whether an applicant is legally qualified to participate an auction for Mobility Fund Phase II and Tribal Mobility Fund Phase II support. To aid in collecting this information, the Commission has created FCC Form 184, which the public will use to provide the necessary information and certifications. Commission staff will review the information collected on FCC Form 184 as part of the pre-auction process, prior to the start of the auction, and determine whether each applicant satisfies the Commission's requirements to participate in an auction for Mobility Fund Phase II and Tribal Mobility Fund Phase II support. Without the information collected on FCC Form 184, the Commission will not be able to determine if an applicant is legally qualified to participate in the auction and has complied with the various applicable regulatory and statutory auction requirements for such participation. This approach provides an appropriate screen to ensure serious participation without being unduly burdensome.

OMB Control Number: 3060-XXXX.

Title: Application to Participate in Connect America Fund Phase II Auction, FCC Form 183.

Form Number: FCC Form 183.

Type of Review: New collection.

Respondents: Business or other for-profit entities, not-for-profit institutions, and state, local or tribal governments.

Number of Respondents and Responses: 500 respondents and 500 responses.

Estimated Time per Response: 7 hours.

Frequency of Response: On occasion reporting requirement.

Obligation To Respond: Required to obtain or retain benefits. Statutory authority for this information collection 47 U.S.C. 154, 254 and 303(r).

Total Annual Burden: 3,500 hours.

Total Annual Cost: No cost.

Nature and Extent of Confidentiality: There is no need for confidentiality. Information collected on FCC Form 183 is made available for public inspection, and the Commission is not requesting that respondents submit confidential information on FCC Form 183. Respondents seeking to have information collected on FCC Form 183 withheld from public inspection may request confidential treatment of such information pursuant to section 0.459 of the Commission's rules, 47 CFR Section 0.459.

Privacy Act Impact Assessment: No impact(s).

Needs and Uses: The Commission will use the information collected to determine whether applicants are eligible to participate in the Connect America Fund Phase II auction (CAF-II auction). On November 18, 2011, the Commission released the USF/ICC Transformation Order and Further Notice of Proposed Rulemaking, WC Docket No. 10-90 et al., FCC 11-161, which comprehensively reformed and modernized the high-cost program within the universal service fund to focus support on networks capable of providing voice and broadband services. The Commission created the Connect America Fund (CAF) and concluded that support in price cap areas would be provided through a combination of “a new forward-looking model of the cost of constructing modern multi-purpose networks” and a competitive bidding process (the CAF-II auction). The Commission also sought comment on proposed rules governing the CAF-II auction, including options regarding basic auction design and the application process.

In the CAF-II auction, service providers will compete to receive support of up to $1.98 billion to offer voice and broadband service in unserved high-cost areas. To implement reform and conduct the CAF-II auction, the Commission adopted new rules for the CAF-II auction which include new information collections. In the April 2014 Connect America Order, WC Docket No. 10-90 et al., FCC 14-54, the Commission adopted certain rules regarding participation in the CAF-II auction, the term of support, and the ETC designation process. In the Phase II Auction Order, WC Docket No. 10-90 et al., FCC 16-64, the Commission adopted rules to implement the CAF-II auction, including the adoption of a two-stage application process. Based on the Commission's experience with auctions and consistent with the record, this two-stage collection of information balances the need to collect information essential to conduct a successful auction with administrative efficiency.

Under this information collection, the Commission will collect information that will be used to determine whether an applicant is legally qualified to participate in an auction for Connect America Fund Phase II support (CAF-II support). To aid in collecting this information, the Commission has created FCC Form 183, which the public will use to provide the necessary information and certifications. Commission staff will review the information collected on FCC Form 183 as part of the pre-auction process, prior to the start of the auction, and determine whether each applicant satisfies the Commission's requirements to participate in an auction for CAF-II support. Without the information collected on FCC Form 183, the Commission will not be able to determine if an applicant is legally qualified to participate in the auction and has complied with the various applicable regulatory and statutory auction requirements for such participation. This approach provides an appropriate screen to ensure serious participation without being unduly burdensome.

Federal Communications Commission.
Marlene H. Dortch,
Secretary, Office of the Secretary.

[FR Doc. 2017-12830 Filed 6-19-17; 8:45 am]

BILLING CODE 6712-01-P